DEPARTMENT OF HOMELAND SECURITY

Coast Guard

[USCG-2012-0797]

National Maritime Security Advisory Committee; Meeting

AGENCY: Coast Guard, DHS.

ACTION: Notice of Federal Advisory Committee Meeting.

SUMMARY: The National Maritime Security Advisory Committee (NMSAC) will meet on September 11-12, 2012 in the Washington, DC metropolitan area to discuss various issues relating to national maritime security. This meeting will be open to the public.

DATES: The Committee will meet on Tuesday, September 11, 2012 from 9 a.m. to 3:30 p.m., and Wednesday, September 12, 2012 from 9 a.m. to 12 p.m. This meeting may close early if all business is finished.

All written material and requests to make oral presentations should reach the Coast Guard on or before September 7, 2012.

ADDRESSES: The Committee will meet at the American Bureau of Shipping, 1400 Key Blvd., Suite 800, Arlington, Virginia 22209. Seating is very limited. Members of the public wishing to attend the open sessions should register with Mr. Ryan Owens, Alternate Designated Federal Official (ADFO) of NMSAC, telephone 202-372-1108 or ryan.f.owens@uscg.mil no later than September 7, 2012. Additionally, this meeting will be broadcasted via a Web enabled interactive online format and teleconference line.

To participate via teleconference, dial (866) 810-4853; the pass code to join is 9760138#. Additionally, if you would like to participate in this meeting via the online Web format, please log onto http://connect.hsin.gov/nmsac91112/ and follow the online instructions to register for this meeting.

For information on facilities or services for individuals with disabilities or to request special assistance at the meeting, contact the person listed below in the FOR FURTHER INFORMATION CONTACT section as soon as possible.

To facilitate public participation, we are inviting public comment on the issues to be considered by the Committee as listed in the “Agenda” section below. Identify your comments by docket number [USCG-2012-0797], and submit them no later than September 7, 2012 by using one of the following methods:

• Federal eRulemaking Portal:

www.regulations.gov. Follow the instructions for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9 a.m. and 5 p.m., Monday through Friday, except Federal holidays. The telephone number is 202-366-9329.

• Instructions: All submissions received must include the words “Department of Homeland Security” and docket number [USCG-2012-0797]. All submissions received will be posted without alteration at www.regulations.gov, including any personal information provided. You may review a Privacy Act notice regarding our public dockets in the January 17, 2008 issue of the Federal Register (73 FR 3316).

• Docket: Any background information or presentations available prior to the meeting will be published in the docket. For access to the docket to read background documents or submissions received by the NMSAC, go to www.regulations.gov, and use “USCG-2012-0797” as your search term.

Public comment period will be held on September 11, 2012, from 3:00 p.m. to 3:30 p.m., and September 12, 2012 from 11:30 a.m. to 12 p.m. Speakers are requested to limit their comments to 5 minutes. Please note that the public comment period will end following the last call for comments. Contact the person listed below in the FOR FURTHER INFORMATION CONTACT section to register as a speaker.

FOR FURTHER INFORMATION CONTACT: Mr. Ryan Owens, ADFO of NMSAC, 2100 2nd Street SW., Stop 7581, Washington, DC 20593-7581; telephone 202-372-1108 or email ryan.f.owens@uscg.mil. If you have any questions on viewing or submitting material to the docket, call Renee V. Wright, Program Manager, Docket Operations, telephone 202-366-9826.

SUPPLEMENTARY INFORMATION: Notice of this meeting is given under the Federal Advisory Committee Act, 5 U.S.C. App. (Pub. L. 92-463). NMSAC operates under the authority of 46 U.S.C. 70112. NMSAC provides advice, consults with, and makes recommendations to the Secretary of Homeland Security, via the Commandant of the Coast Guard, on matters relating to national maritime security.

Agenda of Meeting

The agenda for the Committee meeting is as follows:

Day 1

(1) Maritime Domain Awareness and Information Sharing. The Committee will hold a follow up discussion from its last meeting to discuss the results of the Committee's efforts to poll the maritime industry on what gaps still remain in information sharing between the industry and the Federal Government with a panel of Department of Homeland Security (DHS) Information Sharing Executives. The Committee will make recommendations on how to improve the information sharing efforts of the Coast Guard and DHS.

(2) Cyber-Security. The Committee will discuss the parameters of a new tasking from the Coast Guard to provide guidance/recommendations on cyber-security initiatives within the maritime sector.

(3) Utilization of the Marine Highway for the Protection of Metropolitan Areas from Hazardous Cargo. The Committee will receive a brief on effort by the Maritime Administration to reduce the risk of hazardous cargo in metropolitan areas by utilizing the Marine Highway system.

(4) Detain On-Board Requirements. NMSAC will receive an update on implementation of recommendations made by the NMSAC on April 19, 2012 on Coast Guard and U.S. Customs and Border Protection (CBP) field guidance pertaining to requirements for vessels to post or contract for guards while in US ports.

(5) Transport Canada/Coast Guard Regulatory Harmonization. The Committee will receive an update from Transport Canada and the Coast Guard on the two governments' efforts to harmonize security regulations across the northern border. The Committee will then provide recommendations on these efforts.

(6) Integration of Facility Security Plans and Systems (Coast Guard Authorization Act section 822). NMSAC will be tasked to provide comment/guidance on the provisions of section 822 of the Coast Guard Authorization Act of 2010.

(7) Public Comment Period. NMSAC will hear any other matters raised by the public. Please note that the public will have an opportunity to comment throughout the day on each topic as it is discussed.

Day 2

(1) Port Security Grant Program Priorities. The Committee will discuss and provide guidance/recommendations concerning Port Security Grant Program Priorities.

(2) Radiation Portal Monitoring Replacement and Relocation. The Committee will receive a brief and discuss and provide comment/recommendations on DHS efforts related to Radiation Portal Monitors.

(3) Public comment period. NMSAC will hear any other matters raised by the public. Please note that the public will have an opportunity to comment throughout the day on each topic as it is discussed.

Dated: August 22, 2012.
A.E. Tucci,
Captain, U.S. Coast Guard, Office of Port and Facility Compliance.

[FR Doc. 2012-21163 Filed 8-23-12; 4:15 pm]

BILLING CODE 9110-04-P